DEPARTMENT OF JUSTICE

Antitrust Division

Notice Pursuant to the National Cooperative Research and Production Act of 1993—Digital Manufacturing Design Innovation Institute

Notice is hereby given that, on January 5, 2016, pursuant to Section 6(a) of the National Cooperative Research and Production Act of 1993, 15 U.S.C. 4301 et seq. (“the Act”), Digital Manufacturing Design Innovation Institute (“DMDII”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Kentucky Cabinet for Economic Development, Frankfort, KY; Iowa State University, Ames, IA; Northwestern University, Evanston, IL; Rochester Institute of Technology, Rochester, NY; University at Buffalo, The State University of New York, Buffalo, NY; University of Cincinnati, Cincinnati, OH; University of Illinois-Chicago, Chicago, IL; University of Illinois, Urbana-Champaign, IL; University of Louisville, Louisville, KY; University of Michigan, Ann Arbor, MI; University of Nebraska, Lincoln, NE; General Electric, Niskayuna, NY; Lockheed Martin, Bethesda, MD; Rolls-Royce, Indianapolis, IN; Siemens Product Lifecycle Management Software, Plano, TX; The Regents of the University of Colorado, Boulder, CO; Georgia Tech, Atlanta, GA; Missouri University of Science and Technology, Rolla, MO; Oregon State University, Corvallis, OR; Purdue University, West Lafayette, IN; University of Iowa, Iowa City, IA; University of Wisconsin, Madison, WI; Boeing Company, Hazelwood, MO; Caterpillar, Mossville, IL; Deere and Company, Moline, IL; Illinois Tool Works, Glenview, IL; Microsoft, Redmond, WA; Palo Alto Research Center, Palo Alto, CA; Proctor & Gamble, Cincinnati, OH; Arizona State University, Tempe, AZ; Eastern Iowa Community College, Davenport, IA; Indiana University, Bloomington, IN; Mississippi State University, Starkville, MS; Northern Illinois University, DeKalb, IL; Ohio State University, Columbus, OH; Southwest Research Institute, San Antonio, TX; The Pennsylvania State University, University Park, PA; University of Alabama, Birmingham, AL; University of Delaware, Newark, DE; University of Kentucky, Lexington, KY; Vanderbilt University, Nashville, TN; Virginia Polytechnic Institute and State University, Blacksburg, VA; Western Illinois University, Macomb, IL; 3D Systems, Rock Hill, SC; 3Degrees, Chicago, IL; 3rd Dimension, Indianapolis, IN; 4D Technology, Tucson, AZ; Advanced Dimensional Management, Sherwood, OR; Aeroeda, Jacksonville, FL; Alicona Corporation, Barlett, IL; Anark Corporation, Boulder, CO; aPriori Technologies, Concord, IL; Astronautics Corporation of America, Milwaukee, WI; Atlas Tool Works, Lyons, IL; Ausco, Inc., Farmingdale, NY; Authentise, Inc., Moffett Field, CA; Aztecs Plastic Company, Chicago, IL; BAE Systems Land & Armaments, Arlington, VA; Big Kaiser, Hoffman Estates, IL; Bi-Link, Bloomingdale, IL; BlueSwarf LLC, State College, PA; Boston Consulting Group, Boston, MA; Capvidia, New Ulm, MN; CH Tech, Irvine, CA; Chicago Scenic Studios, Chicago, IL; Chicago White Metal Castings, Bensenville, IL; Cisco Systems, Inc., San Jose, CA; Concurrent Technologies Corporation (CTC), Johnstown, PA; Craig Technologies, Cape Canaveral, FL; Crestlight Ventures, Santa Clara, CA; Daqri, Los Angeles, CA; Design Mill, Dubuque, IA: Dynamic Motion Control, Chicago, IL; EDM Department Inc., Bartlett, IL; Erwin Junker Machinery, Inc., Elgin, IL; ESI North America, Farmington Hills, MI; Fellaroy Corporation, Chicago, IL; Fujitsu Network Communications, Inc., Richardson, TX; Galois, Portland, OR; Grainger, Lake Forest, IL; Grant Thornton, Chicago, IL; Graphicast, Jaffrey, NH; Green Dynamics, Costa Mesa, CA; Grote Industries, Harbec, Inc., Ontario, NY; Hyla Soft, Chicago, IL; Imprimis, Inc., Colorado Springs, CO; Industrial Network Systems (INS), Arlington Heights, IL; Integris Group LLC, East Peoria, IL; Intel, Santa Clara, CA; International Technegroup Inc. (ITI), Milford, OH; Isola USA Corp, Chandler, AZ; ITAMCO, Plymouth, IN; ITRI International Inc., San Jose, CA; Lexmark International, Lexington, KY; MakeTime, Lexington, KY; Manufacturing Systems Insights, Inc., Berkeley, CA; Matrix IV, Inc., Woodstock, IL; MetaMorph, Inc., Nashville, TN; Metrologic Group, Wixom, MI; MFG.com, Marietta, GA; Mitutoyo, Aurora, IL; MSC Software Corp., Newport Beach, CA; MSSRC, Hanover Park, IL; Nimbis, McLean, VA; Okuma, Charlotte, NC; OneFire, Peoria, IL; Optimax Systems, Ontario, NY; OptiPro Systems, Ontario, NY; Oshkosh, Oshkosh, WI; PDA LLC, Naperville, IL; PDES, Inc., Newport Coast, CA; ProPlanner, Ames, IA; PTC, Inc., Needham, MA; QuesTek Innovations LLC, Evanston, IL; Raytheon Company, Andover, MA; RCM Industries, Inc., Franklin Park, IL; Renaissance Services Inc., Fairborn, OH; Rockwell Automation, Milwaukee, WI; Sage Clarity LLC, Chicago, IL; Sanmina, San Jose, CA; Shure Inc., Niles, IL; Sivyer Steel Corporation, Bettendorf; IA; SPIRE, Colorado Springs, CO; STEP Tools, Inc., Troy, NY; Strong Oak, Chicago, IL; Superior Joining Technologies, Machesney Park, IL; Tech Mahindra, Mumbai, INDIA; Tech Soft 3D, Inc., Bend, OR; TechSolve, Cincinnati, OH; The Innovation Machine, Chicago, IL; The Lucrum Group, Severna Park, MD; Tucker Innovations Inc., Waxhaw, NC; Twin City Die Castings, Minneapolis, MN; UL LLC, Chicago, IL; Virtual Systems Engineering, Iowa City, IA; Visi-Trak Worldwide, Valley View, OH; Vizrt, Inc., New York, NY; VTOL, Oak Lawn, IL; Wiegel Tool Works, Wood Dale, IL; Wittenstein, Inc., Bartlett, IL; Wrightwood Precision Products, Chicago, IL; Xebax Michigan Network, St. Clair Shores, MI; Alabama Technology Network, Montgomery, AL; American Foundry Society (AFS), Schaumburg, IL; Association for Manufacturing Technology (AMT), McLean, VA; Bethel New Life, Chicago, IL; Dimensional Metrology Standards Consortium, Inc., Burleson, TX; Diverse Manufacturing Supply Chain Alliance, Rockville, MD; Edison Welding Institute, Inc. (EWI), Columbus, OH; Fabricator and Manufacturers Association, Rockford, IL; George Mason University, Fairfax, VA; Golden Corridor Advanced Manufacturing Partnership (GCAMP), Schaumburg, IL; Heartland Science and Technology Group, Champaign, IL; IPC International, Bannockburn, IL; Manufacturing Renaissance, Chicago, IL; Metropolitan State University of Denver, Denver, CO; MT Connect Institute, McLean, VA; NCMS (National Center for Manufacturing Sciences), Ann Arbor, MI; North American Die Casting Association (NADCA), Arlington Heights, IL; Quad City Manufacturing Laboratory, Rock Island, IL; Rockford Area Economic Development Council (RAEDC), Rockford, IL; Rocky Mountain Technology Alliance, Inc., Colorado Springs, CO; Science Olympiad, Oakbrook Terrace, IL; SME (formally Society of Manufacturing Engineers), Dearborn, MI; Steel Founders Society of America (SFSA), Crystal Lake, IL; The Organization for Machine Automation and Control, Reston, VA; University of Alabama-Huntsville (UAH), Huntsville, AL; Visionary Center for Sustainable Communities, Knoxville, TN; and World Business Chicago (WBC), Chicago, IL.

The general areas of DMDII's planned activities are: DMDII was established as part of the Nationwide Network for Manufacturing Innovation. The objective of DMDII is to significantly advance manufacturing within the United States. The goal of DMDII is to establish a national institute as a resource to focus on complex issues in advanced manufacturing and develop solutions to offset the risk to the U.S. industrial base in adopting these new technologies using a collaborative approach.

Patricia A. Brink,
Director of Civil Enforcement, Antitrust Division.

[FR Doc. 2016-05298 Filed 3-8-16; 8:45 am]

BILLING CODE P